SMALL BUSINESS ADMINISTRATION

Audit and Financial Management Advisory Committee (AFMAC)

AGENCY: U.S. Small Business Administration.

ACTION: Notice of open Federal Advisory committee meeting

SUMMARY: The SBA is issuing this notice to announce the location, date, time and agenda for the next meeting of the Audit and Financial Management Advisory Committee (AFMAC). The meeting will be open to the public.

DATES: The meeting will be held on Friday, October 5, 2018, starting at 1:00 p.m. until approximately 3:00 p.m. Eastern Time.

ADDRESSES: The meeting will be held at the U.S. Small Business Administration, 409 3rd Street SW, Office of Performance Management and Chief Financial Officer Conference Room, 6th Floor, Washington, DC 20416.

FOR FURTHER INFORMATION CONTACT: The meeting is open to the public; however advance notice of attendance is requested. Anyone wishing to attend and/or make a presentation to the AFMAC must contact Tim Gribben by fax or email, in order to be placed on the agenda. Tim Gribben, Chief Financial Officer, 409 3rd Street SW, 6th Floor, Washington, DC 20416, phone (202) 205-6449; fax: (202) 481-0546; email: timothy.gribben@sba.gov.

Additionally, if you need accommodations because of a disability or require additional information, please contact Donna Wood at (202) 619-1608, email: Donna.Wood@sba.gov; SBA Office of Performance Management & Chief Financial Officer, 409 3rd Street SW, Washington, DC 20416. For more information, please visit www.sba.gov/about-sba/sba-performance.

SUPPLEMENTARY INFORMATION: Pursuant to section 10(a)(2) of the Federal Advisory Committee Act (5 U.S.C., Appendix 2), SBA announces the meeting of the AFMAC. The AFMAC is tasked with providing recommendation and advice regarding the Agency's financial management, including the financial reporting process, systems of internal controls, audit process and process for monitoring compliance with relevant law and regulations.

The purpose of the meeting is to discuss the SBA's Financial Reporting, Audit Findings Remediation, Ongoing OIG Audits including the Information Technology Audit, FMFIA Assurance/A-123 Internal Control Program, Credit Modeling, Performance Management, Acquisition Division Update, Improper Payments and current initiatives.

Timothy Gribben,
Chief Financial Officer and Associate Administrator, Office of Performance Management and Chief Financial Officer.

[FR Doc. 2018-20491 Filed 9-19-18; 8:45 am]

BILLING CODE P